DEPARTMENT OF HEALTH AND HUMAN SERVICES

Administration for Children and Families

Submission for OMB Review; Comment Request

Title: State Plan for Grants to States for Refugee Resettlement.

OMB No.: 0970-0351.

Description: A State Plan is required by 8 U.S.C. 1522 of the Immigration and Nationality Act (the Act) [Title IV, Sec. 412 of the Act] for each State agency requesting Federal funding for refugee resettlement under 8 U.S.C. 524 [Title IV, Sec. 414 of the Act], including Refugee Cash and Medical Assistance, Unaccompanied Minor Refugee Program, Refugee Social Services, Cuban/Haitian Entrant Program and Targeted Assistance program funding. The State Plan is a comprehensive narrative description of the nature and scope of a States programs and provides assurances that the programs will be administered in conformity with the specific requirements stipulated in 45 CFR 400.4-400.9. The State Plan must include all applicable State procedures, designations, and certifications for each requirement as well as supporting documentation.

The plan assures ORR that the State is capable of administering refugee assistance and coordinating employment and other social services for eligible caseloads in conformity with specific requirements. Implementation of the Affordable Care Act has significant impacts on States' administration of Refugee Medical Assistance and requires information to ensure accountability and compliance with regulations. Also, Revised Medical Screening Guidelines for Newly Arriving Refugees policy (State Letter #12-09) requires assurances that medical screening is conducted in compliance with regulations and policies. The increasing complexity of the Unaccompanied Refugee Minor program, impacted by changes in federal child welfare legislation as well as state child welfare statutes, regulations and IV-B and IV-E plans, necessitates information and assurances for review of State Plans for URM programs against requirements and mandatory standards under 45 CFR part 400, subpart H and associated State Letters and ORR guidance. Information and assurances address administrative structure and state oversight, legal responsibility, eligibility, services and case review/planning, and interstate movement.

States must use a pre-print format for required components of State Plans for ORR-funded refugee resettlement services and benefits prepared by the Office of Refugee Resettlement (ORR) of the Administration for Children and Families (ACF).

States must submit by August 15 each year new or amended State Plan for the next Federal fiscal year. For previously approved plan, States must certify no later than October 31 each year that the approved State plan is current and continues in effect.

Respondents: State Agencies, Replacement Designees under 45 CFR 400.301(c), and Wilson-Fish Grantees (State 2 Agencies) administering or supervising the administration of programs under Title IV of the Act.

Annual Burden Estimates
Instrument | Number of respondents | Number of responses per respondent | Average burden hours per response | Total burden hours
Title IV state plan | 50 | 1 | 15 | 750

Estimated Total Annual Burden Hours: 750.

Additional Information

Copies of the proposed collection can be obtained by writing to the Administration for Children and Families, Office of Planning, Research and Evaluation, 370 L'Enfant Promenade SW., Washington, DC 20447, Attn: ACF Reports Clearance Officer. Email address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV. Attn: Desk Officer for the Administration for Children and Families.

Robert Sargis,
Reports Clearance Officer.

[FR Doc. 2014-15197 Filed 6-27-14; 8:45 am]

BILLING CODE 4184-01-P